DEPARTMENT OF ENERGY

Federal Energy Regulatory Commission

[Project No. 2032-001 Wyoming]

Lower Valley Energy; Notice of Availability of Final Environmental Assessment

April 27, 2000.

In accordance with the National Environmental Policy Act of 1969 and the Federal Energy Regulatory Commission's (Commission) regulations, 18 CFR Part 380 (Order No. 486, 52 F.R. 47897), the Office of Energy Projects has reviewed the application for a new license for the Strawberry Hydroelectric Project (Project) and has prepared a Final Environmental Assessment (FEA). The project is located on Strawberry Creek near Bedford, Wyoming, and lies entirely within the Bridger National Forest, in Lincoln County, Wyoming.

On November 24, 1999, the Commission staff issued a draft environmental assessment (DEA) for the project and requested that comments be filed with the Commission within 30 days. The commenting deadline was later extended an additional 66 days. Comments on the DEA were filed by the U.S. Forest Service, Wyoming State Engineers Office, and Lower Valley and are addressed in this FEA.

The FEA contains the staff's analysis of the potential environmental impacts of the project and concludes that licensing the project, with appropriate environmental protective measures, would not constitute a major federal action that would significantly affect the quality of the human environment.

Copies of the FEA are available for review in the Public Reference Room, Room 2A, of the Commission's offices at 888 First Street, N.E., Washington, D.C. 20426. This document may also be viewed on the web at http://www.ferc.fed.us/online/rims.htm (please call 202-208-2222 for assistance).

David O. Boergers,
Secretary.

[FR Doc. 00-10955 Filed 5-2-00; 8:45 am]

BILLING CODE 6717-01-M